DEPARTMENT OF JUSTICE

Notice of Lodging of Proposed Consent Decree Under the Clean Air Act and Emergency Planning and Community Right-to-Know Act

On February 6, 2015, the Department of Justice lodged a proposed Consent Decree with the United States District Court for the District of Nebraska in the lawsuit entitled United States v. DPC Enterprises, LP and DPC Industries, Inc., Civil Action No. 8:15-cv-50.

The complaint seeks civil penalties and injunctive relief for violations of the reporting requirements contained in Sections 112(r) of the Clean Air Act (CAA) and Section 312(a) of the Emergency Planning and Community Right-to-Know Act (EPCRA) from DPC Enterprises, L.P. and DPC Industries, Inc. The consent decree settles the alleged claims in return for a penalty of $199,000 and performance of a comprehensive audit by a third party. The consent decree also includes a supplemental environmental project.

The publication of this notice opens a period for public comment on the Consent Decree. Comments should be addressed to the Assistant Attorney General, Environment and Natural Resources Division and should refer to United States v. DPC Enterprises, LP and DPC Industries, Inc., D.J. Ref. No. 90-5-2-1-09973. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library,

U.S. DOJ—ENRD,

P.O. Box 7611,

Washington, DC 20044-7611.

Please enclose a check or money order for $12.75 (25 cents per page reproduction cost) payable to the United States Treasury.

Susan M. Akers,
Assistant Section Chief, Environmental Enforcement Section, Environment and Natural Resources Division.

[FR Doc. 2015-02956 Filed 2-11-15; 8:45 am]

BILLING CODE 4410-15-P